GENERAL SERVICES ADMINISTRATION

41 CFR Parts 301-51 and 301-74

[FTR Amendment 2006-02; FTR Case 2006-302]

RIN 3090-AI23

Federal Travel Regulation; Conference Planning—Prepayment of Registration Fee

AGENCY: Office of Governmentwide Policy, General Services Administration (GSA).

ACTION: Final rule.

SUMMARY: This final rule amends the Federal Travel Regulation (FTR) by clarifying that advance payment of discounted conference fees may be treated as an allowable travel advance, and by adding a new section to allow for the reimbursement of the prepayment of “early bird” discounted registration fees to attend a conference or training seminar. This clarification is added to allow agencies to take advantage of discounted “early bird” registration discounts, thereby saving Government funds. The FTR and any corresponding documents may be accessed at GSA's website at http://www.gsa.gov/ftr.

EFFECTIVE DATE: This final rule is effective April 26, 2006.

FOR FURTHER INFORMATION CONTACT: The Regulatory Secretariat, Room 4035, GS Building, Washington, DC, 20405, (202) 208-7312, for information pertaining to status or publication schedules. For clarification of content, contact Umeki Thorne, Office of Governmentwide Policy, email umeki.thorne@gsa.gov or by telephone at (202) 208-7636. Please cite FTR Amendment 2006-02; FTR case 2006-302.

SUPPLEMENTARY INFORMATION:

A. Background

When planning a conference, it is a general practice to offer discounted “early bird” registration fees, which are available in the months prior to the beginning of the conference. However, many travelers have expressed reluctance over taking advantage of such offers because of the belief that they cannot claim reimbursement until the conference is over, and they file their travel claims. To take advantage of such specials, agencies may authorize travelers to charge such fees to their individually billed Government sponsored travel cards. Accordingly, this final rule clarifies that authorized travelers are allowed to register early and claim reimbursement for the discounted registration fee as soon as their agencies have approved their attendance at the conference. This final rule also addresses the situations when the traveler fails to attend the conference and identifies the circumstances under which the traveler might have to repay the agency for the registration fee.

B. Executive Order 12886

This is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the Federal Travel Regulation (FTR) do not impose recordkeeping or information collection requirements, or the collection of information from offerors, contractors, or members of the public which require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Parts 301-51 and 301-74

Government employees, Travel and transportation expenses.

Dated: March 7, 2006.
David L. Bibb,
Acting Administrator for General Services.

For the reasons set forth in the preamble, under 5 U.S.C. 5701-5709, the General Services Administration (GSA) amends 41 CFR parts 301-51 and 301-74 as set forth below:

PART 301-51—PAYING TRAVEL EXPENSES

1. The authority citation for 41 CFR part 301-51 is revised to read as follows:

Authority: 5 U.S.C. 5707. Subpart A is issued under the authority of Sec. 2, Pub. L. 105—264, 112 Stat. 2350 (5 U.S.C. 5701 note); 40 U.S.C. 121(c).

§ 301-51.200 [Amended]

2. Amend section 301-51.200, paragraph (b), column one, by adding “, advance payment of discounted conference registration fee” after “common carrier”.

PART 301-74—CONFERENCE PLANNING

3. The authority citation for 41 CFR part 301-74 continues to read as follows:

Authority: 5 U.S.C. 5707.

4. Sections 301-74.25 and 301-74.26 are added to read as follows:

§ 301-74.25 May we reimburse travelers for an advanced payment of a conference or training registration fee?

Yes, you may reimburse travelers for an advanced discounted payment for a conference or training registration fee as soon as you have approved their travel to that event, and they submit a proper claim for the expenses incurred.

§ 301-74.26 What is the traveler required to do if he/she is unable to attend an event for which they were reimbursed for an advanced discounted payment of a conference or training registration fee?

In all cases where a traveler is unable to attend an event for which a discounted registration fee was paid and reimbursed in advance of the event, the traveler must seek a refund of the registration fee and repay the agency with any refund received. If no refund is made, the agency must absorb the advanced payment if the traveler's failure to attend the event was caused either by an agency decision or for reasons beyond the employee's control that are acceptable to the agency, e.g., unforeseen illness or emergency. If no refund is made, and the traveler's failure to attend the scheduled event is due to reasons deemed unexcusable by the agency, the traveler must repay the agency for the amount advanced.

[FR Doc. 06-3931 Filed 4-25-06; 8:45 am]

BILLING CODE 6820-14-S